SURFACE TRANSPORTATION BOARD

[Docket No. FD 36661]

Willamette Valley Railway Company—Lease and Operation Exemption—Line of Union Pacific Railroad Company

Willamette Valley Railway Company (WVR), a Class III carrier, has filed a verified notice of exemption under 49 CFR 1150.41 to lease from Union Pacific Railroad Company (UP) and to operate the following lines of railroad extending approximately 32 miles: the West Stayton Branch between milepost 708.11 at Stayton, Or., and milepost 737.76 at Woodburn, Or., and the Geer Branch between milepost 719.16 at Geer, Or., and milepost 721.10 at or near the Geer Station, Or. (collectively, the Lines).

According to WVR, it has operated the Lines pursuant to a longstanding lease agreement with UP and its predecessor, dated February 16, 1993, and it has recently entered into a replacement lease agreement with UP, governing the continued use, management, and operation of the Lines.¹ WVR states that it will continue to operate and provide all rail common carrier service to shippers on the Lines.

¹ Notice of the 1993 lease was given in Willamette Valley Railway—Acquisition, Lease & Operation Exemption—Southern Pacific Transportation Co., FD 32249 (ICC served Mar. 5, 1993). Subsequently, WVR obtained authority to acquire the Line. Willamette Valley Ry.—Acquis. Exemption—Certain Lines of S. Pac. Transp. Co., FD 32684 (STB served Aug. 22, 1996). WVR states that it never consummated its authority to acquire the Lines and the 1993 lease agreement remained in effect.

WVR certifies that its projected annual freight revenues will not exceed those that would qualify it as a Class I or Class II rail carrier and will not exceed $5 million. WVR also certifies that the proposed transaction does not include an interchange commitment.

The transaction may be consummated on or after February 17, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than February 10, 2023 (at least seven days before the exemption becomes effective).

All pleadings, referring to Docket No. FD 36661, must be filed with the Surface Transportation Board either via e-filing on the Board's website or in writing addressed to 395 E Street SW, Washington, DC 20423-0001. In addition, a copy of each pleading must be served on WVR's representative, Peter A. Pfohl, Slover & Loftus LLP, 1224 Seventeenth Street NW, Washington, DC 20036.

According to WVR, this action is categorically excluded from environmental review under 49 CFR 1105.6(c) and from historic preservation reporting requirements under 49 CFR 1105.8(b).

Board decisions and notices are available at www.stb.gov.

Decided: January 31, 2023.
By the Board, Mai T. Dinh, Director, Office of Proceedings.
Kenyatta Clay,
Clearance Clerk.

[FR Doc. 2023-02336 Filed 2-2-23; 8:45 am]

BILLING CODE 4915-01-P